DEPARTMENT OF COMMERCE

Foreign-Trade Zones Board

[B-17-2021]

Foreign-Trade Zone (FTZ) 93—Raleigh/Durham, North Carolina; Notification of Proposed Production Activity; Liebel-Flarsheim Company, LLC (Diagnostic Imaging Contrast Media), Raleigh, North Carolina

Liebel-Flarsheim Company, LLC (Liebel-Flarsheim) submitted a notification of proposed production activity to the FTZ Board for its facility in Raleigh, North Carolina. The notification conforming to the requirements of the regulations of the FTZ Board (15 CFR 400.22) was received on March 2, 2021.

The Liebel-Flarsheim facility is located within FTZ 93. The facility is used for the production of diagnostic imaging contrast media. Pursuant to 15 CFR 400.14(b), FTZ activity would be limited to the specific foreign-status material/component and specific finished product described in the submitted notification (as described below) and subsequently authorized by the FTZ Board.

Production under FTZ procedures could exempt Liebel-Flarsheim from customs duty payments on the foreign-status component used in export production. On its domestic sales, for the foreign-status material/component noted below, Liebel-Flarsheim would be able to choose the duty rate during customs entry procedures that applies to Dotarem® (gadoterate meglumine) (duty-free). Liebel-Flarsheim would be able to avoid duty on the foreign-status material/component which becomes scrap/waste. Customs duties also could possibly be deferred or reduced on foreign-status production equipment.

The material/component sourced from abroad is dodecane tetraacetic acid (DOTA) (duty rate—6.5%). The request indicates that the material/component is subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is April 19, 2021.

A copy of the notification will be available for public inspection in the “Reading Room” section of the Board's website, which is accessible via www.trade.gov/ftz.

For further information, contact Diane Finver at Diane.Finver@trade.gov or (202) 482-1367.

Dated: March 4, 2021.
Andrew McGilvray,
Executive Secretary.

[FR Doc. 2021-04864 Filed 3-8-21; 8:45 am]

BILLING CODE 3510-DS-P